DEPARTMENT OF TRANSPORTATION

Federal Highway Administration

Notice of Final Federal Agency Actions on Proposed Highway in California

AGENCY: Federal Highway Administration (FHWA), Department of Transportation (DOT)

ACTION: Notice of limitation on claims for judicial review of actions by the California Department of Transportation (Caltrans).

SUMMARY: The FHWA, on behalf of Caltrans, is issuing this notice to announce actions taken by Caltrans that are final. The actions relate to a proposed highway project, Interstate 10/Jackson Street Interchange between Monroe Street and 0.4 miles west of Golf Center Parkway at PM R54.9/R56.5 in the City of Indio, in Riverside County, State of California. Those actions grant licenses, permits, and approvals for the project.

DATES: By this notice, the FHWA, on behalf of Caltrans, is advising the public of final agency actions subject to 23 U.S.C. 139(l)(1). A claim seeking judicial review of the Federal agency actions on the highway project will be barred unless the claim is filed on or before March 4, 2022. If the Federal law that authorizes judicial review of a claim provides a time period of less than 150 days for filing such claim, then that shorter time period still applies.

FOR FURTHER INFORMATION CONTACT: For Caltrans: Renetta Cloud, Chief, Environmental Studies “A”, Caltrans District 8, 464 W 4th Street, 6th Floor, MS-823, San Bernardino, CA 92401-1400, Office Hours: 9:00 a.m. to 4:00 p.m., Office Phone: (909) 383-6323, Email: Renetta.Cloud@dot.ca.gov. For FHWA, contact David Tedrick at (916) 498-5024 or email David.tedrick@dot.gov.

SUPPLEMENTARY INFORMATION: Effective July 1, 2007, FHWA assigned, and Caltrans assumed, environmental responsibilities for this project pursuant to 23 U.S.C. 327. Notice is hereby given that the Caltrans has taken final agency actions subject to 23 U.S.C. 139(l)(1) by issuing licenses, permits, and approvals for the following highway project in the State of California: Caltrans proposes to reconstruct and widen Jackson Street at Interstate 10 (I-10) to improve the operational performance of the existing I-10/Jackson Street Interchange within the city limits. The I-10/Jackson Street interchange is located on I-10 between Monroe Street and Gold Center Parkway. The project limits extend from approximately Post Mile (PM) R54.9 to PM R56.6 along I-10 and from Kenner Avenue (south of I-10) to Atlantic Avenue (north of I-10) along Jackson Street. The project site is centrally located within the City of Indio at the crossroads of I-10 and Jackson Street in Riverside County, California. The current I-10/Jackson interchange configuration is a diamond interchange, with signal control at the ramp termini. The interchange is a major access point for existing residential and retail sites. The project proposes to reconstruct and widen Jackson Street at I-10 from one to two lanes in the southbound direction, to construct two new access ramps to the CV Link recreational facility, and to realign and widen the existing I-10 eastbound (EB) and I-10 westbound (WB) on- and off-ramps. The project would also include the construction of a WB auxiliary lane preceding the Jackson Street WB off-ramp, the installation of planned ramp meters on the I-10 EB and WB on-ramps, and construction of the Whitewater River Bridge Structure to accommodate two through lanes, a shoulder, and a sidewalk in each direction.

The actions by the Federal agencies, and the laws under which such actions were taken, are described in the Final Environmental Assessment (EA)/Finding of No Significant Impact (FONSI) for the project, approved on August 27, 2021, and in other documents in the FHWA project records. The EA/FONSI, and other project records are available by contacting Caltrans at the address provided above.

This notice applies to all Federal agency decisions as of the issuance date of this notice and all laws under which such actions were taken, including but not limited to:

1. Council on Environmental Quality regulations;

2. National Environmental Policy Act (NEPA);

3. Moving Ahead for Progress in the 21st Century Act (MAP-21);

4. Americans with Disabilities Act;

5. Department of Transportation Act of 1966;

6. Federal Aid Highway Act of 1970;

7. Federal Uniform Relocation Assistance and Real Property Acquisition Policies Act of 1970;

8. Clean Air Act Amendments of 1990;

9. Noise Control Act of 1970;

10. 23 CFR part 772 FHWA Noise Standards, Policies and Procedures;

11. Department of Transportation Act of 1966, Section 4(f);

12. Clean Water Act of 1977 and 1987;

13. Safe Drinking Water Act;

14. Executive Order 12088, Federal Compliance with Pollution Control;

15. Flood Disaster Protection Act;

16. Executive Order 11988, Floodplain Management;

17. Federal Endangered Species Act of 1973;

18. Migratory Bird Treaty Act;

19. Fish and Wildlife Coordination Act;

20. Executive Order 11990, Protection of Wetlands;

21. Executive Order 13112, Invasive Species;

22. Antiquities Act of 1906;

23. National Historic Preservation Act of 1966, as amended;

24. Historic Sites Act of 1935;

25. Farmland Protection Policy Act;

26. Resource Conservation and Recovery Act of 1976;

27. Comprehensive Environmental Response, Compensation and Liability Act of 1980;

28. Toxic Substances Control Act;

29. Community Environmental Response Facilitation Act of 1992;

30. Occupational Safety and Health Act;

31. Executive Order 12898, Federal Actions to Address Environmental Justice and Low-Income Populations; and

32. Title VI of the Civil Rights Act of 1964.

(Catalog of Federal Domestic Assistance Program Number 20.205, Highway Planning and Construction. The regulations implementing Executive Order 12372 regarding intergovernmental consultation on Federal programs and activities apply to this program.)

(Authority: 23 U.S.C. 139(l)(1))

Issued on: September 30, 2021.
Rodney Whitfield,
Director, Financial Services, Federal Highway Administration, California Division.

[FR Doc. 2021-21722 Filed 10-4-21; 8:45 am]

BILLING CODE 4910-RY-P